DEPARTMENT OF COMMERCE

National Institute of Standards and Technology

Announcing a Meeting of the Information Security and Privacy Advisory Board

AGENCY: National Institute of Standards and Technology.

ACTION: Notice of meeting.

SUMMARY: Pursuant to the Federal Advisory Committee Act, 5 U.S.C. App., notice is hereby given that the Information Security and Privacy Advisory Board (ISPAB) will meet Tuesday, September 28, 2004, from 8:30 a.m. until 5 p.m., Wednesday, September 29, 2004, from 8:30 a.m. until 5 p.m., and Thursday, September 30, 2004, from 8:30 a.m. until 12 p.m. All sessions will be open to the public. The Advisory Board was established by the Computer Security Act of 1987 (Pub. L. 100-235) and amended by the Federal Information Security Management Act of 2002 (Pub.L. 107-347) to advise the Secretary of Commerce and the Director of NIST on security and privacy issues pertaining to federal computer systems. Details regarding the Board's activities are available at http://csrc.nist.gov/ispab/.

DATES: The meeting will be held on September 28, 2004, from 8:30 a.m. until 5 p.m., September 29, 2004, from 8:30 a.m. until 5 p.m., and September 30, 2004, from 8:30 a.m. until 12 p.m.

ADDRESSES: The meeting will take place at the Hilton Hotel Washington, DC—North Gaithersburg, 620 Perry Parkway, Gaithersburg, Maryland.

Agenda

• Welcome and Overview

• Discussion of the Role of the Federal CISO

• Federal Enterprise Architecture Update

• Discussion of Federal IT Security Professional Credentials

• Department of Homeland Security Cyber Security Program Briefing

• Office of Management and Budget Cyber Security Update

• Department of Commerce Chief Privacy Officer Briefing

• NIST Development of the Federal Information Processing Standard for Common Identification of Federal Employees and Federal Contractors

• Agenda Development for September 2004 ISPAB Meeting

• Wrap-Up

Note that agenda items may change without notice because of possible unexpected schedule conflicts of presenters.

Public Participation

The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the ISPAB Secretariat, Information Technology Laboratory, 100 Bureau Drive, Stop 8930, National Institute of Standards and Technology, Gaithersburg, MD 20899-8930. It would be appreciated if 25 copies of written material were submitted for distribution to the Board and attendees no later than September 24, 2004. Approximately 15 seats will be available for the public and media.

FOR FURTHER INFORMATION CONTACT: Ms. Joan Hash, Board Secretariat, Information Technology Laboratory, National Institute of Standards and Technology, 100 Bureau Drive, Stop 8930, Gaithersburg, MD 20899-8930, telephone: (301) 975-3357.

Dated: September 16, 2004.
Hratch G. Semerjian,
Acting Director.

[FR Doc. 04-21260 Filed 9-21-04; 8:45 am]

BILLING CODE 3510-CN-P